DEPARTMENT OF ENERGY

Federal Energy Regulatory Commission

Combined Notice of Filings #1

Take notice that the Commission received the following electric rate filings:

Docket Numbers: ER13-186-003

Applicants: Midcontinent Independent System Operator, Inc.

Description: 08-14-13 ITC BRP Compliance to be effective 6/1/2013.

Filed Date: 8/14/13

Accession Number: 20130814-5053

Comments Due: 5 p.m. ET 9/4/13

Docket Numbers: ER13-1422-003

Applicants: Ebensburg Power Company

Description: Inquiry Response to be effective 5/12/2013.

Filed Date: 8/14/13

Accession Number: 20130814-5044

Comments Due: 5 p.m. ET 9/4/13

Docket Numbers: ER13-1523-001

Applicants: Blythe Energy Inc.

Description: Updated Market Power Analysis for Southwest Region of Blythe Energy Inc.

Filed Date: 8/13/13

Accession Number: 20130813-5173

Comments Due: 5 p.m. ET 10/15/13

Docket Numbers: ER13-1988-001

Applicants: Eligo Energy NY, LLC

Description: Amendment to Application for Market Based Rate to be effective 7/18/2013.

Filed Date: 8/14/13

Accession Number: 20130814-5039

Comments Due: 5 p.m. ET 9/4/13

Docket Numbers: ER13-2152-000

Applicants: New York Independent System Operator, Inc.

Description: Notice of Cancellation of Service Agreement No. 1677 to be effective 8/20/2013.

Filed Date: 8/13/13

Accession Number: 20130813-5146

Comments Due: 5 p.m. ET 9/3/13

Docket Numbers: ER13-2153-000

Applicants: NorthWestern Corporation

Description: NorthWestern Corporation submits Average System Cost Filing for Sales of Electric Power to the Bonneville Power Administration, FY 2014-2015.

Filed Date: 8/13/13

Accession Number: 20130813-5174

Comments Due: 5 p.m. ET 9/3/13

Docket Numbers: ER13-2154-000

Applicants: Public Service Company of Oklahoma

Description: PSO-WFEC Elsworth Delivery Point Agreement to be effective 7/15/2013.

Filed Date: 8/14/13

Accession Number: 20130814-5036

Comments Due: 5 p.m. ET 9/4/13

Docket Numbers: ER13-2155-000

Applicants: Idaho Power Company

Description: BPA REPSIA Average System Cost to be effective 10/1/2013.

Filed Date: 8/14/13

Accession Number: 20130814-5042

Comments Due: 5 p.m. ET 9/4/13

Docket Numbers: ER13-2156-000

Applicants: Midcontinent Independent System Operator, Inc.

Description: 08-14-13 ITCM Compliance to be effective 7/18/2013.

Filed Date: 8/14/13

Accession Number: 20130814-5061

Comments Due: 5 p.m. ET 9/4/13

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 14, 2013.
Nathaniel J. Davis, Sr.,
Deputy Secretary.

[FR Doc. 2013-20403 Filed 8-20-13; 8:45 am]

BILLING CODE 6717-01-P